FEDERAL COMMUNICATIONS COMMISSION

[DA 06-1728]

Tenth Meeting of the Advisory Committee for the 2007 World Radiocommunication Conference (WRC-07 Advisory Committee)

AGENCY: Federal Communications Commission.

ACTION: Notice.

SUMMARY: In accordance with the Federal Advisory Committee Act, this notice advises interested persons that the tenth meeting of the WRC-07 Advisory Committee will be held on October 4, 2006, at the Federal Communications Commission. The purpose of the meeting is to continue preparations for the 2007 World Radiocommunication Conference. The Advisory Committee will consider any preliminary views and draft proposals introduced by the Advisory Committee's Informal Working Groups.

DATES: October 4, 2006; 11 a.m.-12 noon.

ADDRESSES: Federal Communications Commission, 445 12th Street, SW., Room TW-C305, Washington, DC 20554.

FOR FURTHER INFORMATION CONTACT: Alexander Roytblat, FCC International Bureau, Strategic Analysis and Negotiations Division, at (202) 418-7501.

SUPPLEMENTARY INFORMATION: The Federal Communications Commission (FCC) established the WRC-07 Advisory Committee to provide advice, technical support and recommendations relating to the preparation of United States proposals and positions for the 2007 World Radiocommunication Conference (WRC-07).

In accordance with the Federal Advisory Committee Act, Public Law 92-463, as amended, this notice advises interested persons of the tenth meeting of the WRC-07 Advisory Committee. The WRC-07 Advisory Committee has an open membership. All interested parties are invited to participate in the Advisory Committee and to attend its meetings. The proposed agenda for the tenth meeting is as follows:

Agenda

Tenth Meeting of the WRC-07 Advisory Committee, Federal Communications Commission, 445 12th Street, SW., Room TW-C305, Washington, DC 20554

October 4, 2006; 11 a.m.-12 noon

1. Opening Remarks.

2. Approval of Agenda.

3. Approval of the Minutes of the Ninth Meeting.

4. Status of Preliminary Views and Draft Proposals.

5. Reports on Recent WRC-07 Preparatory Meetings.

6. NTIA Draft Preliminary Views and Proposals.

7. Informal Working Group Reports and Documents relating to:

a. Consensus Views and Issues Papers.

b. Draft Proposals.

8. Future Meetings.

9. Other Business.

Federal Communications Commission.
John Giusti,
Acting Chief, International Bureau.

[FR Doc. 06-7392 Filed 9-5-06; 8:45 am]

BILLING CODE 6712-01-P